DEPARTMENT OF THE INTERIOR

National Park Service

[NPS-WASO-NAGPRA-NPS0038628; PPWOCRADN0-PCU00RP14.R50000]

Notice of Intended Repatriation: Indiana University, Bloomington, IN

AGENCY: National Park Service, Interior.

ACTION: Notice.

SUMMARY: In accordance with the Native American Graves Protection and Repatriation Act (NAGPRA), Indiana University intends to repatriate certain cultural items that meet the definition of unassociated funerary objects or objects of cultural patrimony and that have a cultural affiliation with the Indian Tribes or Native Hawaiian organizations in this notice.

DATES: Repatriation of the cultural items in this notice may occur on or after October 3, 2024.

ADDRESSES: Dr. Jayne-Leigh Thomas, Indiana University, NAGPRA Office, Student Building 318, 701 E. Kirkwood Avenue, Bloomington, IN 47405, telephone (812) 856-5315, email thomajay@indiana.edu; and Dr. Allison Martino, Indiana University, Eskenazi Museum of Art, 1133 East Seventh Street, Bloomington, IN 47405-7509, telephone (812) 855-5445, email EskenaziMuseumofArt@iu.edu.

SUPPLEMENTARY INFORMATION: This notice is published as part of the National Park Service's administrative responsibilities under NAGPRA. The determinations in this notice are the sole responsibility of Indiana University, and additional information on the determinations in this notice, including the results of consultation, can be found in the summary or related records. The National Park Service is not responsible for the determinations in this notice.

Abstract of Information Available

A total of eight cultural items have been requested for repatriation.

The four unassociated funerary objects are shaman's objects, and the four objects of cultural patrimony are a mask, rattle, blanket, and ceremonial knife. Museum records and consultation both identified Tlingit cultural affiliation for these eight items. Available records do not include geographical locations for any of these cultural items. The Indiana University Art Museum (IUAM), now the Eskenazi Museum of Art, acquired a shaman's box from Origins Gallery in 1962. The IUAM received additional three shaman's objects as a donation from the Raymond and Laura Wielgus Collection in 2010. Prior ownership for these objects include: JJ. Klejman, George Thorton Emmons, Harry Georffrey Beasley, the Cranmore Ethnographical Museum, Merton Simpson, and Reverend Robert Richard Arthur Doolan. The IUAM acquired a rattle and chief's blanket from Michael R. Johnson Gallery in 1975; prior ownership for the blanket includes John H. Hauberg. The IUAM acquired a mask from Raymond Wielgus in 1977; prior ownership history includes Julius Carlebach, Andre Breton, and Paul Eluard. The IUAM acquired a ceremonial knife from Damon Brandt in 1980.

Determinations

Indiana University has determined that:

• The four unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The four objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Central Council of the Tlingit & Haida Indian Tribes.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 3, 2024. If competing requests for repatriation are received, Indiana University must determine the most appropriate requestor prior to repatriation. Requests for joint repatriation of the cultural items are considered a single request and not competing requests. Indiana University is responsible for sending a copy of this notice to the Indian Tribes and Native Hawaiian organizations identified in this notice and to any other consulting parties.

Authority: Native American Graves Protection and Repatriation Act, 25 U.S.C. 3004 and the implementing regulations, 43 CFR 10.9.

Dated: August 26, 2024.
Melanie O'Brien,
Manager, National NAGPRA Program.

[FR Doc. 2024-19677 Filed 8-30-24; 8:45 am]

BILLING CODE 4312-52-P